GENERAL SERVICES ADMINISTRATION

OMB Control No. 3090-0014

Information Collection; Standard Form (SF) 123, Transfer Order-Surplus Personal Property and Continuation Sheet

AGENCY: Federal Supply Service, GSA.

ACTION: Notice of request for comments regarding a renewal to an existing OMB clearance.

SUMMARY: Under the provisions of the Paperwork Reduction Act of 1995 (44 U.S.C. Chapter 35), the General Services Administration will be submitting to the Office of Management and Budget (OMB) a request to review and approve a renewal of a currently approved information collection requirement regarding transfer order-surplus personal property and continuation sheet.

Public comments are particularly invited on: Whether this collection of information is necessary and whether it will have practical utility; whether our estimate of the public burden of this collection of information is accurate, and based on valid assumptions and methodology; ways to enhance the quality, utility, and clarity of the information to be collected.

DATES: Submit comments on or before: May 16, 2005.

FOR FURTHER INFORMATION CONTACT: Denise Thomas, Federal Supply Services, GSA at telephone (703) 308-0742 or via e-mail to denise.thomas@gsa.gov.

ADDRESSES: Submit comments regarding this burden estimate or any other aspect of this collection of information, including suggestions for reducing this burden to the Regulatory Secretariat (VIR), General Services Administration, Room 4035, 1800 F Street, NW., Washington, DC 20405. Please cite OMB Control No. 3090-0014, Transfer Order-Surplus Personal Property and Continuation Sheet, in all correspondence.

SUPPLEMENTARY INFORMATION:

A. Purpose

Standard form (SF) 123, Transfer Order-Surplus Personal Property and Continuation Sheet is used by public agencies, nonprofit educational or public health activities, programs for the elderly, service educational activities, and public airports to apply for donation of Federal surplus personal property. The SF 123 serves as the transfer instrument and includes item descriptions, transportation instructions, nondiscrimination assurances, and approval signatures.

B. Annual Reporting Burden

Respondents: 63,000

Responses Per Respondent: 1

Hours Per Response: 0.3

Total Burden Hours: 18,900

Obtaining Copies of Proposals: Requesters may obtain a copy of the information collection documents from the General Services Administration, Regulatory Secretariat (VIR), 1800 F Street, NW., Room 4035, Washington, DC 20405, telephone (202) 208-7312. Please cite OMB Control No. 3090-0014, Transfer Order-Surplus Personal Property and Continuation Sheet, in all correspondence.

Dated: December 17, 2004
Michael W. Carleton,
Chief Information Officer.

[FR Doc. 05-5087 Filed 3-14-05; 8:45 am]

BILLING CODE 6820-YT-S